DEPARTMENT OF TRANSPORTATION

Research and Special Programs Administration

[Docket No. RSPA-04-18975; Notice No. 04-07]

Safety Advisory: Unauthorized Marking of Compressed Gas Cylinders

AGENCY: Research and Special Programs Administration (RSPA), DOT.

ACTION: Safety advisory notice.

SUMMARY: This is to notify the public that RSPA is investigating the unauthorized marking of DOT specification high-pressure carbon dioxide fire extinguishers serviced by Statewide Fire Equipment, Inc. (Statewide), West Buxton, ME. Note that non-DOT specification dry chemical fire extinguishers are not at issue. RSPA has evidence that suggests Statewide marked, certified and returned to service numerous high-pressure DOT specification carbon dioxide fire extinguishers when the cylinders had not been properly requalified in accordance with the Hazardous Materials Regulations (HMR). In addition, the evidence suggests that Statewide used the Retester Identification Numbers (RINs) of several other licensed retest facilities without the permission or knowledge of these facilities.

A hydrostatic retest and visual inspection are used to verify the structural integrity of compressed gas cylinders. If a hydrostatic retest and visual inspection are not performed within the time period required by the HMR, cylinders with compromised structural integrity may be returned to service when they should be condemned. Extensive property damage, serious personal injury, or death could result from rupture of a cylinder.

SUPPLEMENTARY INFORMATION: Through its investigation, RSPA believes that Statewide marked, certified and returned to service an undetermined number of high-pressure carbon dioxide fire extinguishers without the authority to perform such servicing or without ensuring that the cylinders were properly requalified by an authorized retest facility. The cylinders are owned by municipal school systems, fire departments, and a yet to be determined number of other customers in southern Maine, The HMR require that a cylinder requalification facility hold a current RIN issued by RSPA. Statewide has never applied for or received a RIN; therefore it is not an authorized cylinder requalification facility. Cylinders serviced by Statewide were found to be marked with the RINs of four different authorized requalification facilities. The facilities and RIN numbers are: RIN A803 issued to AAA Fire Extinguisher Co., Inc. (AAA Fire Extinguisher), 328 Rodman Road, Auburn, ME, (207) 784-8306; RIN A887 issued to Simplex Grinnell LP (Simplex Grinnell), 20 Thomas Drive, Westbrook, ME, (207) 842-6440; RIN A813 issued to J. N. Johnson Sales & Service, Inc., (J. N. Johnson), 4200 West 76th Street, Edina, MN, (952) 835-4600; and RIN A857 issued to Orange County Fire Protection (Orange County Fire), 137 West Bristol Lane, Orange, CA, (714) 974-9025.

RSPA has reviewed the retester records from these four companies from 1995 to the present, and has determined that none of these companies have performed any cylinder requalification for Statewide. Although AAA Fire Extinguisher of Auburn, ME requalified DOT specification high pressure carbon dioxide fire extinguishers for Statewide until approximately 1995, it has not performed any services for Statewide since then. In addition to the four RIN numbers mentioned above, RSPA believes that Statewide may have marked cylinders with other unauthorized RINs. The RIN and date of retest are marked on the shoulders of cylinders in the following pattern:

M is the month of retest (e.g., 10), and Y is the year of the retest (e.g., 04).

This safety advisory covers all high-pressure DOT specification fire extinguishers that have been marked and certified as having been requalified while in the custody of Statewide. These cylinders may pose a safety risk to the public and should be considered unsafe for use in hazardous materials service until requalified by an authorized retest facility. Furthermore, cylinders described in this safety advisory must not be filled with a hazardous material unless the cylinders are first properly retested by an authorized retest facility. A list of authorized requalification facilities sorted by state or by RIN number may be obtained at RSPA's Web site: http://hazmat.dot.gov/files/approvals/hydro/hydro_retesters.htm.

FOR FURTHER INFORMATION CONTACT: Anthony Lima, Senior Hazardous Materials Enforcement Specialist, Eastern Region, Office of Hazardous Materials Enforcement, Research and Special Programs Administration, U.S. Department of Transportation, 820 Bear Tavern Road, Suite 306, West Trenton, NJ 08628. Telephone: (609) 989-2252.

RSPA requests that any person possessing a high pressure DOT specification fire extinguisher serviced by Statewide since 1995 contact inspector Anthony Lima with the following information for each cylinder: (1) The DOT specification number and service pressure, (2) the serial number which should be marked in association with the specification number and service pressure, (3) the RIN number and the month and year of the last marked requalification, (4) invoices from Statewide that have the line item, “Hydrostatic Tests” completed, and (5) the customer name, address, contact person and telephone number so the inspector may contact you if necessary. Please provide the requested information via facsimile to: (775) 307-4971.

Issued in Washington, DC, on November 17, 2004.
Robert A. McGuire,
Associate Administrator for Hazardous Materials Safety.

[FR Doc. 04-25889 Filed 11-22-04; 8:45 am]

BILLING CODE 4910-60-P